DEPARTMENT OF AGRICULTURE

Rural Business-Cooperative Service

Rural Housing Service

Rural Utilities Service

Rural Development Cooperative Agreement Program

AGENCY: Rural Development USDA.

ACTION: Notice.

SUMMARY: The Assistant to the Secretary for Rural Development (Agency) is seeking applications to support regional economic development planning efforts in rural communities under the Rural Economic Development Innovation (REDI) initiative. This funding opportunity will be administered by the Rural Development Innovation Center, in partnership with the Rural Business-Cooperative Service. The Agency is announcing up to $750,000 in competitive cooperative agreement funds in fiscal year (FY) 2018. Rural Development Agency may select one, multiple, or no award recipients. The Agency reserves the right to withhold the awarding of any funds if no application receives a score of at least 60 points.

This Notice lists the information needed to submit an application for these funds. This Notice announces that the Agency is accepting FY 2018 applications to support REDI.

DATES: The deadline for receipt of a complete application is midnight Eastern Standard Time on Wednesday, September 5, via www.grants.gov. The Agency will not consider any application received after the deadline. After an applicant submits an application via grants.gov, all applicants must email RD.Innovation@osec.usda.gov to confirm application and receipt of the application package. Applicants who have been selected for funding will receive a letter of official notification and will be awarded a cooperative agreement authorized under 7 U.S.C. 2204b(b)(4). Pending funding availability, all awards will be made no later than September 30, 2018. Applicants should plan their projects based on a start date of September 30, 2018 and must be completed within 24 months.

ADDRESSES: The deadline for receipt of an application is midnight Eastern Standard Time on Wednesday, September 5, 2018. Applications may be submitted electronically through the Grants.gov system or through email to RD.Innovation@osec.usda.gov. Note that there are registration requirements for submitting applications using the Grants.gov system. We recommend that you review the instructions for registering as soon as possible, but at least two weeks before you plan to submit your application. The requirements can be viewed at: http://grants.gov/applicants/organization_registration.jsp. Your application will be rejected by Grants.gov if you miss the deadline and the Agency will not consider any application received after the deadline.

FOR FURTHER INFORMATION CONTACT: Question about this announcement can be directed to Christine Sorensen, Regional Coordinator, via 202-568-9832 or Christine.Sorensen@wdc.usda.gov.

SUPPLEMENTARY INFORMATION:

Preface

The Agency encourages applications that will support recommendations made in the Rural Prosperity Task Force report to help improve life in rural America (www.usda.gov/ruralprosperity). Applicants are encouraged to consider projects that provide measurable results in helping rural communities build robust and sustainable economies through strategic investments in infrastructure, partnerships, and innovation. Key strategies include:

• Achieving e-Connectivity for Rural America.

• Developing the Rural Economy.

• Harnessing Technological Innovation.

• Supporting a Rural Workforce.

• Improving Quality of Life.

Paperwork Reduction Act

It is anticipated that the anticipated number of respondents affected by this information collection is less than 10 entities and therefore, this Notice contains no reporting or recordkeeping provisions requiring Office of Management and Budget (OMB) approval under the Paperwork Reduction Act of 1995 (44 U.S.C. Chapter 35).

Overview

Federal Agency Name: U.S. Department of Agriculture, Rural Development.

Funding Opportunity Title: Rural Development Cooperative Agreement Program.

Announcement Type: Notice of Funding Availability (NOFA).

Catalog of Federal Domestic Assistance (CFDA) Number: 10.890.

Application Due Date: All required application documents must be submitted by midnight Eastern Standard Time on Wednesday, September 5 electronically via www.grants.gov. Applicants submitting proposals must also confirm receipt and email RD.Innovation@osec.usda.gov to confirm application and receipt of the application package. Applicants who have been selected for funding will receive a letter of official notification. Pending funding availability, all awards will be made no later than September 30, 2018. Applicants should plan their projects based on a start date of September 30, 2018 and must be completed within 24 months.

For More Information: Questions about this announcement can be directed to Christine Sorensen, Regional Coordinator, via 202-568-9832 or Christine.Sorensen@wdc.usda.gov.

A. Program Description

USDA Rural Development (RD) is authorized to administer cooperative agreement awards in accordance with 7 U.S.C. 2204b(b)(4). Rural Economic Development Innovation (REDI) aims to strengthen the capacity of rural communities (50,000 people or less in the United States plus Tribes and territories) in implementing strategic community and economic development plans as referenced in Section 379H of the Consolidated Farm and Rural Development Act (7 U.S.C. 2008v). The goal of this funding announcement is to solicit applications to provide cooperative agreement funding to eligible applicants to enable them to provide technical assistance and training and actionable planning of implementation of strategic community and economic development plans. Supporting regional economic development plans help rural communities overcome multi-jurisdictional challenges and better leverage Federal, state, local or private funding.

For purposes of this proposal, a quality regional economic plan will include but not be limited to the following:

• Evidence-based understanding of community assets, challenges and opportunities.

• Goals are focused, logical, targeted and timely with tasks identified and with a responsible party assigned.

• The plan was created through broad community participation, public input and buy-in.

• The format must be persuasive in a non-technical manner.

• The plan makes clear how each of its strategies is intended to help produce, either directly or indirectly, improvements in the local and regional economy.

• Regional economic development plans developed through REDI assistance should identify possible projects to be funded through RD programs and/or other Federal, state, local or private sector resources.

This funding opportunity expands rural communities' ability to access planning resources to convene, identify needs, create actionable economic development plans, and implement project priorities to improve quality of life in rural communities. Quality of life is a measure of human well-being that can be identified though economic and social indicators. Modern utilities, affordable housing, efficient transportation and reliable employment are economic indicators that must be integrated with social indicators like access to medical services, public safety, education and community resilience to empower rural communities to thrive. Economic development plans developed through this funding opportunity should focus on one or more of these economic and/or social indicators.

Applicants are encouraged to consider regional planning projects that provide measurable results in helping rural communities built robust and sustainable economies through strategic investments in infrastructure, partnerships, and innovation. Such projects should also support rural communities' ability to qualify for priority funding under Section 379H of the Consolidated Farm and Rural Development Act [7 U.S.C. 2008v].

This approach to comprehensive rural community development is unique in its attempt to improve rural communities in a way that is (1) rooted in emphasizing partnerships and collaboration among multiple public agencies and community partners and (2) focused on combining state resources to make wide-ranging quality-of-life impacts as opposed to separate, piecemeal, incremental improvements.

B. Federal Award Information

1. Estimated Funding: Interested applicants shall only propose applications with scope of work/budget that does not exceed $750,000 in Federal funding.

2. Start Date and Performance Period: Projects may be up to 2 years in duration. Applicants should plan their projects based on a project start date of September 30, 2018 and a project end date of no later than September 30, 2020.

3. Type of Federal Award: Cooperative Agreement. Rural Development will be substantially involved in the work performed under each approved cooperative agreement. Substantial involvement may include but is not limited to collaboration, participation, oversight, and control of the following:

i. Authority to suspend work if specification or work statements are not met;

ii. Review and approval of one stage of work before another may begin;

iii. Review and approval of substantive provisions of proposed sub-grants or contracts;

iv. Prior review and approval of key personnel; and

v. Agency collaboration and coordination with respect to deliverables and execution of the work plan. At a minimum, applicants should anticipate Agency participation in the selection of communities to receive regional planning assistance; the convening of community members, partners, and stakeholders; the delivery of training on RD programs and/or economic development principles; and the review/approval of regional economic development plans for purposes of priority funding under Section 379H of the Consolidated Farm and Rural Development Act (7 U.S.C. 2008v).

4. Number of Awards: The Agency anticipates that it may select one, multiple, or no award recipients from this notice of funding availability. The Agency reserves the right to withhold the awarding of any funds if no application receives a minimum score of at least 60 points.

5. Eligibility of renewal or Supplemental Project Applications: Applications for renewal or supplementation of any existing Federal awards are not eligible for this new Federal award. An application for renewal means a proposal submitted to continue an existing agreement by adding components to an existing agreement in order to meet the objectives of this solicitation.

C. Eligibility Information

Applicants must meet all of the following eligibility requirements by the application deadline. Applications which fail to meet any of these requirements by the application deadline will be deemed ineligible and will not be evaluated further and will not receive a Federal award.

1. Applicant Eligibility: Federally-recognized Tribes, institutions of higher education, nonprofit organizations, or private organizations with a demonstrated national structure and/or capacity to deliver and support multiple rural planning activities across the nation are eligible applicants. Entities are not eligible if they have been debarred or suspended or otherwise excluded from or ineligible for participation in Federal assistance programs under Executive Order 12549, “Debarment and Suspension.” In addition, an applicant will be considered ineligible for a cooperative agreement due to an outstanding judgment obtained by the U.S. in a Federal Court (other than U.S. Tax Court), is delinquent on the payment of Federal income taxes, or is delinquent on Federal debt.

2. Eligible Project Purposes: The Project purpose must be to strengthen the capacity of rural communities (50,000 people or less in the United States plus Tribes and territories) in developing and implementing regional plans for economic development as referenced in Section 379H of the Consolidated Farm and Rural Development Act. Eligible project purposes must include the two facets of technical assistance:

i. Planning Technical Assistance: The proposed project should provide planning technical assistance to rural communities by assisting in the development of regional economic development plans. Proposals should include descriptions on how technical assistance will result in actionable steps to support implementation of these plans. The proposed project should also provide technical assistance to expand rural communities' ability to access funding and planning resources to convene community members.

ii. Implementation Technical Assistance: The proposed project should provide technical assistance toward implementation of the project priorities emerging from the regional economic development plans. The technical assistance should include strategies for enhancing communities' efforts at leveraging Federal, state, local, and/or private funding to build resilient communities and improve quality of life. The applicant will demonstrate how their proposal will utilize partnerships outside of RD. The applicant will identify such partnerships and will demonstrate how they will provide access to such partnerships to support implementation of projects identified through development of regional economic development plans. The proposed project should also describe how it will support implementation of multi-jurisdictional and/or multi-sector regional economic development plans, as described in Section 379H of the Consolidated Farm and Rural Development Act.

3. Cost Sharing or Matching Requirements: There is a dollar or in-kind matching requirement that is at least equal to the amount of the cooperative agreement award. If this matching fund requirement is not met, the application will be deemed ineligible. Matching requirements are cash, confirmed funding commitments and/or third party in-kind contributions as defined in 2 CFR 200.96. that are at least equal to the cooperative agreement amount and committed for a period of not less than the cooperative agreement performance period. Applicants must recruit one or more private and/or public partner(s) to match one-for-one (in cash and/or in-kind contributions) the applicant's proposed funding request. Cost sharing/matching must be committed at the time of application submission. Applications must include written verification of commitments of cost sharing or matching support (including both cash and in-kind contributions) from third parties. Cost sharing or matching funds must meet the criteria stated at 2 CFR 200.306 and be valued in accordance with 2 CFR 200.306(d).

Additional details about cost sharing or matching funds/contributions is located at 2 CFR 200.306. Applicant matching funds must be included in the budget narrative. For matching funds offered by project partners, a separate commitment letter is required for each cash and/or in-kind match contribution. Commitment letters must be signed by the authorized organizational representative of the contributing organization and the applicant organization, which must include: (i) The name, address, and telephone number of the contributor; (ii) the name of the applicant organization; (iii) the title of the project for which the contribution is made, (iv) the dollar amount of the contribution; and (v) a statement that the contributor commits to furnish the contribution during the cooperative agreement period.

Applications without signed written commitments are deemed incomplete and will be ineligible. The value of applicant contributions to the project is established according to Federal cost principles. Applicants should refer to 2 CFR 200.306 for additional guidance on matching funds, in-kind contributions, and allowable costs.

4. Substantial Involvement: Proposed project must include a component that allows for active participation by the Agency in the majority of tasks. Examples of substantial involvement include but are not limited to the following: Joint-selection of communities to receive regional planning assistance; joint-convening of community members, partners, and stakeholders; joint-delivery of training on RD programs and/or economic development principles; and joint-review/approval of regional economic development plans for purposes of priority funding under Section 6025 Strategic Economic and Community Development. It is the intent of this project to engage Agency and state RD staff in the development of regional economic development plans and it is the responsibility of the applicant to identify tasks where RD staff can provide substantial involvement in the project. If you do not identify those tasks, your application is not eligible for funding.

5. Use of Funds: Use of project funds (including Federal and matching) must be consistent with the project purpose to strengthen the capacity of rural communities in developing and implementing regional plans for economic development. A non-exclusive list of eligible fund uses include: Costs incurred for the services of personnel actually engaged in the project, including share of employee benefits, travel and per diem expenses, costs of expendable supplies, and travel and per diem expenses associated with travel to USDA Headquarters in Washington, DC to coordinate and collaborate on project tasks. Use of funds must be allowable in adherence with 2 CFR part 200.

If you include funds in your budget that are unallowable, RD will consider the application for funding only if the unallowable costs total 10 percent or less of the total project budget, including Federal and matching funds. However, if the application is successful, those unallowable costs must be removed from the budget before RD will make an award. If RD cannot determine the percentage of unallowable costs or the amount of those costs exceeds 10 percent of the total project budget, the application will not be considered for funding.

6. Rural Area: The project must directly benefit a rural area. All ultimate beneficiaries and/or subrecipients must be located in rural areas, and any activities or tasks must occur in rural areas. The term `rural area' means the Rural Business Service's Rural Area definition as out lined in Section 343(a)(13)(A)(i) of the Consolidated Farm and Rural Development Act which states: Any area other than: (1) A city or town that has a population of greater than 50,000 inhabitants; and (2) any urbanized area contiguous and adjacent to such a city or town.

7. Number of Applications: You cannot submit more than one application for this Notice.

D. Application and Submission Information

1. Address to Request Application Page. All necessary forms can be found within the Grants.gov “Application Package.”

2. Content and Form of Application Submission. There is no pre-application process for this announcement. All checklist, application, and standard forms necessary for submission are included in the Grants.gov application package. Applications that are incomplete or fail to comply with the required content and formatting requirements will not be considered for funding.

i. Content and Format: Each page must be on numbered, letter-sized (8½ x 11) paper utilizing a white background that has 1″ margins; and the text of the application must be typed, single spaced, black, and in a font no smaller than 12 point.

ii. Executive Summary (1-page maximum): On a single page, provide the applicant entity name, duration of project in months, amount of Federal funding requested, amount of non-Federal cost-share/match funding committed, and project title. Identify geographic locations, and describe in non-technical language the issue or problem rural communities have in accessing economic development planning resources, the objectives to address this issue, the innovative approach to be employed (including the role of participating partners), how impact will be quantified, and the predicted benefits or deliverables of the project.

iii. Standard Application Form: Standard Form 424, “Application for Federal Assistance” is included as part of the application package posted on Grants.gov. Instructions for completing the form are also included.

iv. Applicant Qualifications (1-2 pages): Summary of the qualifications of the applicant organization is required. Interested applicant must have the organizational capacity, experience, and knowledge of rural planning needs and must meet the following minimum requirements:

a. Demonstrate national structure and/or capacity to support multiple rural planning activities across the nation;

b. Demonstrate knowledge and prior experience in regional planning, particularly related to rural issues;

c. Demonstrate capacity to assist rural communities to develop regional plans such as access to data for needs assessment and planners and other technical capacity on staff; and

d. Demonstrate knowledge and prior experience of leveraging other community-driven plans or projects such as Comprehensive Economic Development Strategies (CEDS) or other Federally-recognized regional economic development plans.

v. Key Personnel Qualifications (1-2 pages): Summary of the qualifications of each key person, including the project director, is required. Resumes or CVs will not be accepted. The summary should include relevant education, years of relevant experience, a description of skills relevant to the person's work on the proposed project, and the person's key accomplishments. If you expect to contract out a portion of the proposed work, but have not hired the contractor, you must include a summary of the qualifications you will require from the contractor.

vi. Project Proposal (15-page maximum): The project proposal must include a proposed Work Plan, along with the following information in order:

a. Project Background.

b. Project Objectives.

c. Project Approach/Methods.

d. Theory of Change.

e. Geographic Locations or Project Areas.

f. Project Management (Applicants are required to include a Work Plan Chart that lists each major Task by Key Personnel involved, Time Period of the task, Substantial Involvement of Rural Development staff, Deliverables, and Budget associated with each task).

g. Performance Metrics.

h. Graphics, References, Citations (Do not count against the 15-page maximum).

A Work Plan Chart template is available for applicants as part of this funding opportunity on grants.gov.

vii. Budget Information (10-page maximum): The budget portion of the application consists of two parts as described below:

a. Standard Form (SF) 424A, “Budget Information”: Non-Construction Programs. The SF-424A is included as part of the application package posted on Grants.gov.

b. Detailed Budget Narrative: Provide a detailed narrative in support of the budget for the project, broken down by task. Discuss how the budget specifically supports the proposed activities. Justify the project cost effectiveness and include justification for personnel and consultant salaries with a description of duties. Statement(s) of work for any subcontractors and consultants must be included as part of the application. The budget narrative should include both the Federal funds requested and the applicant's matching funds. The format of the budget narrative can be in a chart, spreadsheet, table, etc. It should be readable on letter-size, printable pages. The information needs to be presented in such a way that the reviewers can readily understand what expenses are incurred to support the project.

viii. Certifications: All proposals must include the following signed certification forms, which are available at Grants.gov:

a. AD-3030, “Representations Regarding Felony Conviction and Tax Delinquent Status for Corporate Applicants.” The AD-3030 must be submitted if entity is a corporate non-profit or for-profit corporation as indicated in the applicants SAM registration.

b. AD-3030, “Representations Regarding Felony Conviction and Tax Delinquent Status for Corporate Applicants.” The AD-3030 must be submitted if entity is a corporate non-profit or for-profit corporation as indicated in the applicants SAM registration.

c. SF-424B, “Assurances for Non-Construction Programs.” The SF-242B must be completed by all applicants.

d. SF-424B, “Assurances for Non-Construction Programs.” The SF-242B must be completed by all applicants.

ix. Verification of Matching Funds. You must provide verification of all matching funds that will be contributed to the project. You must include a letter signed by the donating organization's authorized representative on the organization's letterhead that identifies the amount of matching funds, the time period during which matching funds will be available, and the source of the funds (e.g., cash on hand, etc.). See Section Eligibility Information (C 3) for more information.

x. Risk Review: The Agency may request additional documentation from selected applicants in order to evaluate the financial, management, and performance risk posed by awardees as required by 2 CFR 200.205. Based on this risk review, the Agency may apply special conditions that correspond to the degree of risk assessed.

xi. National Environmental Policy Act: This Notice has been reviewed in accordance with 7 CFR part 1970, “Environmental Policies and Procedures.” We have determined that an Environmental Impact Statement is not required because the issuance of regulations and instructions, as well as amendments to them, describing administrative and financial procedures for processing, approving, and implementing the Agency's financial programs is categorically excluded in the National Environmental Policy Act (NEPA) regulation found at 7 CFR 1970.53(f). We have determined that this Notice does not constitute a major Federal action significantly affecting the quality of the human environment.

xii. Civil Rights Compliance Requirements: All awards made under this Notice are subject to Title VI of the Civil Rights Act of 1964 as required by 7 CFR part 15, subpart A and Section 504 of the Rehabilitation Act of 1973.

3. Unique entity identifier and System for Award Management (SAM). DUNS and SAM Numbers: Each applicant (unless the applicant is an individual excepted from those requirements under 2 CFR 25.110(b) or (c), or has an exception approved by the Federal awarding agency under 2 CFR 25.110(d)) is required to: (i) Be registered in SAM before submitting its application; (ii) provide a valid unique entity identifier (Data Universal Numbering System (DUNS) number) in its application; and (iii) continue to maintain an active SAM registration with current information at all times during which it has an active Federal award or an application or plan under consideration by a Federal awarding agency. The Agency may not make a Federal award to an applicant until the applicant has complied with all applicable unique entity identifier and SAM requirements and, if an applicant has not fully complied with the requirements by the time Agency is ready to make a Federal award, Agency may determine that the applicant is not qualified to receive a Federal award and use that determination as a basis for making a Federal award to another applicant. Applicants must obtain a DUNS and register in SAM prior to registering with Grants.gov. Applicants are strongly encouraged to apply early for their DUNS number and SAM registration.

i. Data Universal Numbering System (DUNS) Number: A DUNS number is a unique, nine-digit sequence recognized as the universal standard for identifying and keeping track of over 70 million businesses worldwide. Applicants must obtain a DUNS number. Information on how to obtain a DUNS number can be found at http://fedgov.dnb.com/webform or by calling 1-866-705-5711. Please note that the registration may take up to 14 business days to complete.

ii. System for Award Management (SAM) Registration: SAM is the official Federal system that consolidated the capabilities of Central Contractor Registry, Federal Agency Registration, Online Representations and Certifications Application, and Excluded Parties List System. To register, go to: https://www.sam.gov/portal/public/SAM/. Please allow a minimum of 5 days to complete the SAM registration.

4. Submission Dates and Times. Midnight Eastern Standard Time on September 5, 2018. You must submit your application using Grants.gov by the deadline date and time. Note that there are registration requirements for submitting applications using the Grants.gov system. We recommend that you review the instructions for registering as soon as possible, but at least two weeks before you plan to submit your application. The requirements can be viewed at: http://grants.gov/applicants/organization_registration.jsp. Your application will be rejected by Grants.gov if you miss the deadline. We will not accept it in a different format, and we will not consider it for funding.

i. Acknowledgement of receipt: Grants.gov provides receipt of application submissions. The Agency acknowledges receipt of proposals received by the submission deadline via email. An applicant who does not receive such an email acknowledgement within 5 business days of the submission deadline, but believes the proposal was submitted within the submission deadline, must contact the Agency at 202-568-9832 or Christine.Sorensen@wdc.usda.gov within 10 business days of the submission deadline. Failure to do so may result in the proposal not being considered.

ii. Withdrawal: Proposals may be withdrawn by written notice at any time before award execution. Written notice of withdrawal must be signed by the applicant or an authorized representative.

All required application documents must be submitted by midnight Eastern Standard Time on Wednesday, September 5 via www.grants.gov AND by emailing RD.Innovation@osec.usda.gov.

Submitting an application through www.grants.gov requires completing a variety of tasks and steps. There are also several preliminary registration steps before the applicant can submit the application. To register in the Grants.gov system, go to www.grants.gov, click on “Applicants”, then click on “Get Registered.” If you have completed a prior Grants.gov application, you may already have completed the registration process.

Please allow sufficient time to register in Grants.gov, and for possible system delays. Below are instructions for accessing the forms necessary to complete an application in Grants.gov:

i. Go to www.grants.gov. Information about submitting an application using Grants.gov is located on the Grants.gov website, along with supplementary materials.

ii. Select the “Applicant” tab.

iii. Select the “Apply for Grants” heading.

iv. Click on “Get Application Package.” Follow all steps.

v. Provide the “Funding Opportunity Number” or return to the “Search Grants” section.

vi. All necessary forms are included within the Grants.gov “Application Package.”

Applications not received through Grants.gov by the submission due date and time are not accepted for consideration. The emailed application must be assembled into one pdf file document in the order specified in section IV, part A. All applications must contain all of the elements of a complete package and meet the requirements described in this announcement. Grants.gov provides instructions for submitting the required application items through the portal. Application receipt date and time will be determined by the respective system-generated documentation of receipt date and time (Grants.gov provides date and time stamps for all proposals submitted through the portal).

The Agency is not responsible for any technical malfunctions or website problems related to Grants.gov or emailed submissions. If you encounter issues with Grants.gov, please contact the Grants.gov help desk at (800) 518-4726 or support@grants.gov. The applicant assumes the risk of any delays in application submission through Grants.gov.

5. Intergovernmental Review. Intergovernmental Review: Executive Order (E.O.) 12372, Intergovernmental Review of Federal Programs, applies to this program. This E.O. requires that Federal agencies provide opportunities for consultation on proposed assistance with State and local governments. Many States have established a Single Point of Contact (SPOC) to facilitate this consultation. A list of States that maintain an SPOC may be obtained at: http://www.whitehouse.gov/omb/grants_spoc. If your State has an SPOC, you must submit your application directly for review. Any comments obtained through the SPOC must be provided to us for consideration as part of your application. If your State has not established an SPOC, we will submit your application to the appropriate agency or agencies at our discretion. Applications from Federally-recognized Indian Tribes are not subject to Intergovernmental Review.

6. Funding Restrictions.

i. Pre-award Costs. Pre-award costs are not authorized.

ii. Use of Funds. Award funds may be used to pay up to 50 percent of the project costs.

iii. Period of Performance. The maximum Period of Performance is 2 years. Applicants should anticipate a Period of Performance beginning September 30, 2018 and ending no later September 30, 2020.

iv. Indirect Cost Rate. The indirect cost rate is limited to 10 percent of direct charges for all nonprofit institutions, including institutions of higher education. All other organizations must use the rate identified in their Negotiated Indirect Cost Rate Approval (NICRA). If you do not have a NICRA, you may elect to charge only direct costs to the award. If you have never had a NICRA, you may also choose to use a de minimis rate of 10 percent of modified total direct costs in accordance with 2 CFR 200.414(f). Your indirect cost rate must be included on Form SF-424A.

v. Program Income. If you expect to earn Program Income during the Period of Performance, you must identify the amount and how you expect to use it (e.g. Matching Funds) in your application. If your application is funded, unexpected Program Income or Program Income earned in excess of the amount you identify in your application will be deducted from the Federal share of the project in accordance with 2 CFR 200.307(e)(1).

vi. Prohibited Costs. In addition to costs identified as unallowable by 2 CFR part 200, the following costs are prohibited for this program. Neither award funds nor matching funds can be used to pay for the following types of expenses.

a. Duplicating services currently provided;

b. Funding a revolving loan fund;

c. Construction (in any form);

d. Salaries for positions involved in construction, renovations, rehabilitation, and any oversight of these types of activities;

e. Intermediary preparation of strategic plans for recipients;

f. Funding prostitution, gambling, or any illegal activities;

g. Grants to individuals;

h. Funding a grant where there may be a conflict of interest, or an appearance of a conflict of interest, involving any action by the Agency;

i. Providing assistance to only one individual, organization, or business;

j. Paying obligations incurred before the beginning date without prior Agency approval or after the ending date of the cooperative agreement;

k. Purchasing real estate;

l. Improvement or renovation of the recipient's office space or for the repair or maintenance of privately owned vehicles;

m. Any purpose prohibited in 2 CFR part 200 or 400;

n. Using cooperative agreement assistance or matching funds for Individual Development Accounts;

o. Purchasing vehicles.

V. Application Review Information

Applications will first be reviewed to determine if they meet the eligibility requirements and comply with the funding restrictions in this Notice. If we determine that your application is ineligible, we will discontinue processing it, which means that we will not evaluate it further or provide any scoring information. We will notify you in writing regarding the reason(s) for ineligibility, and we will provide a description of your options if you believe that our determination is incorrect. Note that in the event that our determination is reversed, either due to the discovery of an Agency error or through a formal appeal, funding is restricted to available fiscal year 2018 funds.

If your application is determined to be eligible, we will further evaluate it based on the following criteria. All applications will be competitively ranked and the minimum score requirements for a cooperative agreement award under this Notice is 60 points.

1. Evaluation Criteria: We will only use the information that you provide in your application to evaluate your proposed project. We will not review references to websites or publications, so we encourage you to fully address each criterion.

i. Soundness of Approach (0-20 points). The applicant can receive up to 20 points for soundness of approach. The maximum 20 points for this criterion will be based on the following:

a. The objectives must be clearly stated in the proposal and the applicant must define how this proposal will be implemented. The applicant must demonstrate how the proposal will strengthen the capacity of rural communities in developing and implementing regional plans for economic development. The applicant must demonstrate how the proposed technical assistance includes both the planning and implementation components referenced in Section C. The applicant must also demonstrate how the proposed technical assistance will expand rural communities' ability to access funding and planning resources to convene community members. The applicant must also demonstrate how the proposal will support implementation of regional economic development plans and should include descriptions on how proposed technical assistance will result in actionable steps to support implementation of these plans. (10 points)

b. The applicant clearly outlines their ability to provide the proposed technical assistance based on clearly stated and well-documented prior accomplishments. (5 points)

c. The proposal clearly outlines how it will implement activities to support alignment with one or more of the five key strategies (achieving e-connectivity, developing the rural economy, harnessing technological innovation, supporting a rural workforce, and improving quality of life in Rural America) the Agriculture and Rural Prosperity Task Force Report. (5 points)

ii. Partnerships (0-25 points). The applicant can receive up to 25 points for quality of the applicant's existing partnerships and proposed new partnerships for this effort. The applicant must recruit one or more private and/or public partners to meet match requirements and maximize leveraging of regional economic development plans developed through this project. The maximum 25 points for this criterion will be based on the following:

a. The applicant demonstrates how their proposal will focus on the quantity and quality of partnerships, including the ability to leverage new partners that have previously had limited engagement with RD projects or priorities to leverage resources, enhance technical assistance, and/or increase reach to underserved areas. The proposal must demonstrate that partners with shared missions and goals will be engaged to amplify reach in rural areas. (10 points)

b. The applicant demonstrates how their proposal will support the quantity and quality of match commitments to support this project, and percentage of match in cash form versus in-kind contributions. (5 points)

c. The applicant will demonstrate how their proposal will support the ability of applicant to leverage other community-driven plans or projects such as Comprehensive Economic Development Strategies (CEDS) or other Federally-recognized regional economic development plans. (5 points)

d. The applicant will demonstrate how their proposal will utilize partnerships outside of RD. The applicant will identify such partnerships and will demonstrate how they will provide access to such partnerships to support implementation of projects identified through development of regional economic development plans. (10 points)

iii. Innovation (0-10 points). The applicant can receive up to 10 points for innovative methods and practices to support development of regional economic development plans. The maximum 10 points for this criterion will be based on the following:

a. The applicant's proposal should demonstrate the ability of the applicant to propose methods and practices to utilize unique and innovative planning methods that are currently not being implemented at scale. (5 points)

b. The applicant's proposal should demonstrate the ability of the applicant to demonstrate that the proposed innovative methods and practices have been field-tested and ready to scale. (5 points) We are looking for unique and innovative ideas that are not currently being implemented at scale, so projects that propose innovative solutions that haven't been readily deployed before will receive higher points.

iv. Organizational Capacity & Qualifications (0-15 points). The applicant can receive up to 15 points based on organizational capacity and qualifications. The maximum 15 points for this criterion will be based on the following:

a. The applicant's proposal should demonstrate that the applicant has knowledge and prior experience in regional planning, particularly related to rural issues. The applicant should specify years of experience, types of communities served, and outcomes achieved. (10 points)

b. The applicant's proposal should demonstrate that the applicant has identified appropriate key personnel, both in terms of number of personnel and qualifications of personnel, to carry out the approach identified. Capacity of personnel to access data for needs assessments and access to planners and other technical experts will be evaluated. (5 points)

v. Work Plan (0-15 points). The applicant can receive up to 15 points based on the quality of the proposed work plan and approach. The maximum 15 points for this criterion will be based on the following:

a. Applicants should use the approved work plan template to include the following information: Description of objective, background approach, timeframe for key tasks along with substantial involvement, budget and deliverables that are necessary to implement project to support regional economic development planning in rural communities. Reasonableness and appropriateness of key tasks will be evaluated based on proposed project approach. (5 points)

b. The applicant's proposal should include a description of the types and general locations of rural communities to be served through this project, including the ability to support multiple rural planning activities across the nation and the reasonableness of effectively serving these communities based on key personnel, established timeframes, and budget. (5 points)

c. The applicant's proposal should include a description and appropriateness of the tasks to incorporate active participation from RD staff. (5 points)

vi. Performance Outcomes (0-15 points). The applicant can receive up to 15 points based on the quality of the proposed performance measures to evaluate progress and impacts of proposed project. The maximum 15 points for this criterion will be based on the following:

a. The applicant's proposal should include a description for how the results of the technical assistance will be measured, including the benchmarks to be used to measure effectiveness. Benchmarks should be specific and quantifiable. (10 points)

b. The applicant's proposal should include a description of benchmarks and outcomes achieved during previously deployed planning efforts. (5 points)

2. Review and Selection Process: All eligible applications will be evaluated based on the process described below.

i. Review Process. All eligible applications will be evaluated by an Application Review Panel using the criteria described in Section E.1 of this Notice. Panel members will be appointed by the Agency and they will be qualified to evaluate the applications, based on the type of work proposed by the applicant.

ii. Selection Process. Applications will be ranked in descending order, according to the scores awarded by the Panel. Applications will be funded in rank order, until all available funds have been expended. Applications at or near the funding line may be funded in part, if the Agency believes an appropriate benefit can result from partial funding and if the applicant agrees to the amount of partial funding. In the event the Agency considers partial funding to be appropriate, we will contact the applicant and negotiate the final work plan and budget prior to approving an award.

iii. Anticipated Announcement and Award Dates. All awards must be obligated by September 30, 2018.

VI. Award Administration Information

1. Federal Award Notices:

i. Successful applicants. Successful applicants will be notified in writing by the Agency with a Letter of Conditions (LOC). The LOC is a notice of selection and does not indicate that an award has been approved, nor is it an authorization to begin performance on the award. While there may be special conditions that apply on a case-by-case basis, the following conditions are standard for all successful applicants.

a. Complete Form RD 1942-46, “Letter of Intent to Meet Conditions.”

b. Complete Form RD 1940-1, “Request for Obligation of Funds.”

c. Complete FMMI Vendor Code Request Form.

d. Provide a copy of your organization's Negotiated Indirect Cost Rate Agreement.

e. Certify that all work completed for the award will benefit a rural area.

f. Certify that you will comply with the Federal Funding Accountability and Transparency Act of 2006 and report information about subawards and executive compensation.

g. Certify that the U.S. has not obtained an outstanding judgement against your organization in a Federal Court (other than in the United States Tax Court).

h. Execute Form SF-424B, “Assurances—Non-Construction Programs.”

i. Execute Form SF-LLL, “Disclosure Form to Report Lobbying,” if applicable or certify that your organization does not lobby.

j. Execute Form AD-1047, “Certification Regarding Debarment, Suspension, and Other Responsibility Matters-Primary Covered Transactions.”

k. Obtain a certification on Form AD-1048, “Certification Regarding Debarment, Suspension, Ineligibility and Voluntary Exclusion-Lower Tier Covered Transactions,” from anyone you do business with as a result of this award.

l. Execute Form AD-1049, “Certification Regarding a Drug-Free Workplace Requirements (Grants).”

m. Execute Form AD-3031, “Assurance Regarding Felony Conviction or Tax Delinquent Status for Corporate Applicants.”

n. Execute Form RD 400-4, “Assurance Agreement.”

Once the conditions described in the LOC have been met, the award will be approved through the execution of Form RD 4280-2 in conjunction with the RDCA Program Attachment. If an applicant is unable to meet the conditions of the award within 90 calendar days, the award will be withdrawn.

ii. Unsuccessful applicants. Unsuccessful applicants will be notified in writing no later than October 31, 2018.

2. Administrative and National Policy Requirements. The terms of the award are available at: http://forms.sc.egov.usda.gov/efcommon/eFileServices/eForms/RD4280-2.PDF.

3. Reporting Requirements. The following reporting requirements apply to awards made through this program.

i. Performance Reports: Form SF-PPR, “Performance Progress Report,” must be submitted quarterly based on the following time periods: January 1-March 31, April 1-June 30, July 1-September 30, and October 1-December 31. Quarterly reports are due within 30 calendar days of the end of the reporting period. A final report is due within 90 calendar days of the completion of the project or the end of the period of performance, whichever comes first. Both quarterly and final performance reports must be submitted electronically to 202-568-9832 or Christine.Sorensen@wdc.usda.gov.

ii. Financial Report: Form SF-425, “Federal Financial Report” must be submitted quarterly based on the following time periods: January 1-March 31, April 1-June 30, July 1-September 30, October 1-December 31. Quarterly reports are due within 30 calendar days of the end of the reporting period. A final report is due within 90 calendar days of the completion of the project or the end of the period of performance, whichever is comes first. Both quarterly and final reports must be submitted electronically to Christine.Sorensen@wdc.usda.gov.

iii. Report Suitable for Public Distribution: A report suitable for public distribution that describes the accomplishments of the project is due within 90 calendar days of the completion of the project. There is no format prescribed for this report, but it is expected that it will be 1-2 pages in length and describe the project in such a way that a member of the public not familiar with the project would gain an understanding of the impact of the project.

VII. Federal Awarding Agency Contact

If you have questions, you may contact Christine Sorensen at 202-568-9832 or Christine.Sorensen@wdc.usda.gov.

VIII. Notice to Applicants

The Federal Government is not obligated to make any Federal award as a result of this announcement. Only authorized Federal officials can bind the Federal Government to the expenditure of funds.

IX. Nondiscrimination Statement

In accordance with Federal civil rights law and U.S. Department of Agriculture (USDA) civil rights regulations and policies, the USDA, its Agencies, offices, and employees, and institutions participating in or administering USDA programs are prohibited from discriminating based on race, color, national origin, religion, sex, gender identity (including gender expression), sexual orientation, disability, age, marital status, family/parental status, income derived from a public assistance program. Political beliefs, or reprisal or retaliation for prior civil rights activity, in any program or activity conducted or funded by USDA (not all bases apply to all programs). Remedies and complaint filing deadlines vary by program or incident.

Persons with disabilities who require alternative means of communication for program information (e.g., Braille, large print, audiotape, American Sign Language, etc.) should contact the responsible Agency or USDA's TARTET Center at (202) 720-2600 (voice and TTY) or contact USDA through the Federal Relay Service at (800) 877-8339. Additionally, program information may be made available in languages other than English.

To file a program discrimination complaint, complete the USDA Program Discrimination Complaint Form, AD-3027, found online at: http://www.ascr.usda.gov/complaint_filing_cust.html, and at any USDA office or write a letter addressed to USDA and provide in the letter all of the information requested in the form. To request a copy of a complaint form, call, (866) 632-9992. Submit your completed form or letter to USDA by:

1. Mail: U.S. Department of Agriculture, Office of the Assistant Secretary for Civil Rights, 1400 Independence Avenue SW, Washington, DC 20250-9410;

2. Fax: (202) 690-7442; or

3. Email at: program.intake@usda.gov.

USDA is an equal opportunity provider, employer, and lender.

Dated: August 10, 2018.
Anne Hazlett,
Assistant to the Secretary, USDA Rural Development.

BILLING CODE 3410-15-P

[FR Doc. 2018-17765 Filed 8-16-18; 8:45 am]

BILLING CODE 3410-15-C